POSTAL REGULATORY COMMISSION

[Docket No. CP2010-104; Order No. 530]

New Postal Product

AGENCY: Postal Regulatory Commission.

ACTION: Notice.

SUMMARY: The Commission is noticing a recently-filed Postal Service request to add a Global Expedited Package Services 3 contract to the competitive product list. This notice addresses procedural steps associated with this filing.

ADDRESSES: Submit comments electronically via the Commission's Filing Online system at http://www.prc.gov. Commenters who cannot submit their views electronically should contact the person identified in FOR FURTHER INFORMATION CONTACT by telephone for advice on alternatives to electronic filing.

FOR FURTHER INFORMATION CONTACT: Stephen L. Sharfman, General Counsel, stephen.sharfman@prc.gov or 202-789-6820.

SUPPLEMENTARY INFORMATION:

Table of Contents

I. Introduction

II. Notice of Filing

III. Ordering Paragraphs

I. Introduction

On September 1, 2010, the Postal Service filed a notice announcing that it has entered into an additional Global Expedited Package Services 3 (GEPS 3) contract.¹ The Postal Service believes the instant contract is functionally equivalent to previously submitted GEPS contracts, and is supported by Governors' Decision No. 08-7, attached to the Notice and originally filed in Docket No. CP2008-4. Id. at 1, Attachment 3. The Notice explains that Order No. 86, which established GEPS 1 as a product, also authorized functionally equivalent agreements to be included within the product, provided that they meet the requirements of 39 U.S.C. 3633. Id. at 2. In Order No. 290, the Commission approved the GEPS 2 product.² In Order No. 503, the Commission approved the GEPS 3 product. Additionally, the Postal Service requested to have the contract in Docket No. CP2010-71 serve as the baseline contract for future functional equivalence analyses of the GEPS 3 product.

¹ Notice of United States Postal Service of Filing A Functionally Equivalent Global Expedited Package Services 3 Negotiated Service Agreement and Application For Non-Public Treatment of Materials Filed Under Seal, September 1, 2010 (Notice).

² Docket No. CP2009-50, Order Granting Clarification and Adding Global Expedited Package Services 2 to the Competitive Product List, August 28, 2009 (Order No. 290).

The instant contract. The Postal Service filed the instant contract pursuant to 39 CFR 3015.5. In addition, the Postal Service contends that the instant contract is in accordance with Order No. 86. The Postal Service relates that the instant contract is for the same mailer as in Docket No. CP2009-60. It states that the mailer's current contract was scheduled to terminate at the end of its one year term on August 31, 2010; however, it filed a Motion for Temporary Relief to extend the contract pending completion of the Commission's review of the successor contract.³ The Commission granted an extension of the contract “until the sooner of the Commission's order on the successor contract or September 30, 2010.”⁴

³ Motion of the United States Postal Service for Temporary Relief, August 26, 2010 (Motion).

⁴ Order Granting Motion for Temporary Relief, August 27, 2010.

The term of the instant contract is 1 year from the date the Postal Service notifies the customer that all necessary regulatory approvals have been received. Notice at 3.

In support of its Notice, the Postal Service filed four attachments as follows:

•Attachment 1—a redacted copy of the contract and applicable annexes;

•Attachment 2—a certified statement required by 39 CFR 3015.5(c)(2) for the contract;

•Attachment 3—a redacted copy of Governors' Decision No. 08-7 which establishes prices and classifications for GEPS contracts, a description of applicable GEPS contracts, formulas for prices, an analysis of the formulas, and certification of the Governors' vote; and

•Attachment 4—an application for non-public treatment of materials to maintain redacted portions of the contract and supporting documents under seal.

The Notice advances reasons why the instant GEPS 3 contract fits within the Mail Classification Schedule language for GEPS. The Postal Service identifies customer-specific information and general contract terms that distinguish the instant contract from the baseline GEPS 3 agreement. Id. at 4-5. It states that the differences, which include price variations based on updated costing information and volume commitments, do not alter the contract's functional equivalency. Id. at 4. The Postal Service asserts that “[b]ecause the agreement incorporates the same cost attributes and methodology, the relevant characteristics of this GEPS contract are similar, if not the same, as the relevant characteristics of previously filed contracts.” Id.

The Postal Service concludes that its filing demonstrates that this new GEPS 3 contract complies with the requirements of 39 U.S.C. 3633 and is functionally equivalent to the baseline GEPS 3 contract. Therefore, it requests that the instant contract be included within the GEPS 3 product. Id. at 5.

II. Notice of Filing

The Commission establishes Docket No. CP2010-104 for consideration of matters related to the contract identified in the Postal Service's Notice.

Interested persons may submit comments on whether the Postal Service's contracts are consistent with the policies of 39 U.S.C. 3632, 3633, or 3642. Comments are due no later than September 10, 2010. The public portions of these filings can be accessed via the Commission's Web site (http://www.prc.gov).

The Commission appoints Paul L. Harrington to serve as Public Representative in the captioned proceedings.

III. Ordering Paragraphs

It is ordered:

1. The Commission establishes Docket No. CP2010-104 for consideration of matters raised by the Postal Service's Notice.

2. Comments by interested persons in these proceedings are due no later than September 10, 2010.

3. Pursuant to 39 U.S.C. 505, Paul L. Harrington is appointed to serve as the officer of the Commission (Public Representative) to represent the interests of the general public in these proceedings.

4. The Secretary shall arrange for publication of this order in the Federal Register.

By the Commission.
Shoshana M. Grove,
Secretary.

[FR Doc. 2010-23203 Filed 9-16-10; 8:45 am]

BILLING CODE 7710-FW-S